DEPARTMENT OF ENERGY

Federal Energy Regulatory Commission

Combined Notice of Filings #2

Take notice that the Commission received the following electric rate filings:

Docket Numbers: ER10-2331-020.

Applicants: J.P. Morgan Ventures Energy Corporation.

Description: Compliance filing to be effective 4/1/2013.

Filed Date: 5/23/13.

Accession Number: 20130523-5080.

Comments Due: 5 p.m. ET 6/13/13.

Docket Numbers: ER13-88-002.

Applicants: Alcoa Power Generating Inc.

Description: Alcoa Power Generating Inc., on behalf of Yadkin Division, submits compliance filing.

Filed Date: 5/22/13.

Accession Number: 20130522-5148.

Comments Due: 5 p.m. ET 6/21/13.

Docket Numbers: ER13-618-001.

Applicants: Westwood Generation, LLC.

Description: Change in Status to be effective 5/23/2013.

Filed Date: 5/23/13.

Accession Number: 20130523-5044.

Comments Due: 5 p.m. ET 6/13/13.

Docket Numbers: ER13-1544-000.

Applicants: AES ES Tait, LLC.

Description: AES ES Tait Notice of Succession to be effective 4/16/2013.

Filed Date: 5/23/13.

Accession Number: 20130523-5058.

Comments Due: 5 p.m. ET 6/13/13.

Docket Numbers: ER13-1545-000.

Applicants: PJM Interconnection, L.L.C.

Description: Queue Position #X1-109—Original Service Agreement No. 3559 to be effective 4/23/2013.

Filed Date: 5/23/13.

Accession Number: 20130523-5060.

Comments Due: 5 p.m. ET 6/13/13.

Take notice that the Commission received the following electric securities filings:

Docket Numbers: ES13-20-000.

Applicants: Southwest Power Pool, Inc.

Description: Amendment to April 16, 2103 Application of Southwest Power Pool, Inc. for an Order Authorizing the Issuance of Securities.

Filed Date: 5/23/13.

Accession Number: 20130523-5066.

Comments Due: 5 p.m. ET 6/3/13.

Take notice that the Commission received the following public utility holding company filings:

Docket Numbers: PH13-16-000.

Applicants: DTE Energy Company.

Description: DTE Energy Company submits FERC-65-B Waiver Notification and FERC-65 Notification of Holding Company Status.

Filed Date: 5/23/13.

Accession Number: 20130523-5087.

Comments Due: 5 p.m. ET 6/13/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 23, 2013.
Nathaniel J. Davis, Sr.,
Deputy Secretary.

[FR Doc. 2013-13583 Filed 6-6-13; 8:45 am]

BILLING CODE 6717-01-P